DEPARTMENT OF TRANSPORTATION

Federal Railroad Administration

[Docket No. FRA-2015-0007-N-21]

Agency Request for Emergency Processing of Collection of Information by the Office of Management and Budget

AGENCY: Federal Railroad Administration (FRA), United States Department of Transportation (USDOT).

ACTION: Notice.

SUMMARY: FRA hereby gives notice that it is submitting the following Information Collection request (ICR) to the Office of Management and Budget (OMB) for Emergency Processing under the Paperwork Reduction Act of 1995. FRA requests that OMB authorize the collection of information identified below seven days after publication of this Notice for a period of 180 days.

FOR FURTHER INFORMATION CONTACT: A copy of this individual ICR, with applicable supporting documentation, may be obtained by telephoning FRA's Office of Safety Clearance Officer: Robert Brogan (tel. (202) 493-6292) or FRA's Office of Administration Clearance Officer: Kimberly Toone (tel. (202) 493-6132); these numbers are not toll-free; or by contacting Mr. Brogan via facsimile at (202) 493-6216 or Ms. Toone via facsimile at (202) 493-6497, or via email by contacting Mr. Brogan at Robert.Broga@dot.gov; or by contacting Ms. Toone at Kim.Toone@dot.gov. Comments and questions about the ICR identified below should be directed to OMB's Office of Information and Regulatory Affairs, Attn: FRA OMB Desk Officer.

SUPPLEMENTARY INFORMATION: FRA issued Safety Advisory 2015-04 on August 20, 2015, to emphasize the importance of timely repairing ballast defects and conditions on main tracks. FRA published Safety Advisory 2015-04 in the Federal Register on August 26, 2015. See 80 FR 51868. In the Safety Advisory, FRA notes that ballast defects and ballast conditions that are not repaired in a timely manner can lead to future defects. FRA believes it is important for track inspectors to be aware that ballast defects and conditions can cause track components to deteriorate rapidly and compromise the stability of the track structure, and that inspectors are trained to identify and repair ballast defects and conditions. This safety advisory recommends that track owners and railroads: (1) Assess current engineering instructions on ballast safety and update them to provide specific guidance to track inspectors (designated personnel that are qualified to inspect and repair track) on how to identify and initiate remedial action under 49 CFR 213.233(d) for ballast defects and conditions, as well as on the appropriate remedial action to implement, particularly in areas with one or more additional track conditions; (2) train track inspectors on the updated engineering instructions and this safety advisory to ensure they understand how to identify and initiate remedial action for ballast defects and conditions in a timely manner, and understand the importance of such remedial action in preventing the development of unsafe combinations of track conditions; and (3) ensure that supervisors provide adequate oversight of track inspectors to achieve identification and remediation of ballast defects and other track conditions.

FRA is requesting Emergency processing approval seven days after publication of this Federal Register Notice because FRA cannot reasonably comply with normal clearance procedures on account of use of normal clearance procedures is reasonably likely to disrupt the collection of information. The associated collection of information is summarized below.

Title: Ballast Defects and Conditions—Importance of Identification and Repair in Preventing Development of Unsafe Combinations of Track Conditions.

Reporting Burden:

Safety advisory 2015-04 | Respondent universe | Total annual responses | Average time per response | Total annual burden hours
(1) RR Assessment and Update of Engineering Instructions to provide Guidance to Its Track Inspectors on How to Identify and Repair Ballast Defects and Other Ballast Conditions | 754 Railroads | 100 assessments + 100 engineering instruction updates | 60 minutes | 200 hours.
(2) RR Training of Its Track Inspectors on Updated Engineering Instructions and FRA Safety Advisory 2015-04 | 754 Railroads | 10,000 trained track inspectors/records | 60 minutes | 10,000 hours.

Form Number(s): N/A.

Respondent Universe: 754 Railroads.

Frequency of Submission: One-time; on occasion.

Total Estimated Responses: 10,200.

Total Estimated Annual Burden: 10,200 hours.

Status: Emergency Review.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Issued in Washington, DC, on August 26, 2015.
Corey Hill,
Acting Executive Director.

[FR Doc. 2015-21541 Filed 8-31-15; 8:45 am]

BILLING CODE 4910-06-P